DEPARTMENT OF TRANSPORTATION

National Highway Traffic Safety Administration

[U.S. DOT Docket No. NHTSA-2009-0192]

Reports, Forms, and Record Keeping Requirements

AGENCY: National Highway Traffic Safety Administration (NHTSA), DOT.

ACTION: Request for public comment on proposed collection of information.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on February 24, 2010 (75 FR 8426-8472).

DATES: Comments must be submitted on or before June 7, 2010.

ADDRESSES: Send comments regarding this information collection request to the Office of Information and Regulatory Affairs, Office of Management and Budget, 725 Seventeenth Street, NW., Washington, DC 20503; Attention: NHTSA Desk Officer. Comments may also be sent via e-mail to OMB at the following address: oira_submissions@omb.eop.gov.

FOR FURTHER INFORMATION CONTACT: Scott Roberts, PhD, Contracting Officer's Technical Representative, Office of Behavioral Safety Research (NTI-132), National Highway Traffic Safety Administration, 1200 New Jersey Ave., SE., W46-495, Washington, DC 20590. Dr. Roberts' phone number is 202-366-5594 and his e-mail address is Scott.Roberts@dot.gov.

SUPPLEMENTARY INFORMATION: Title: Focus Groups for Traffic and Motor Vehicle Safety Programs and Activities.

Type of Request: New generic information collection request.

Requested Expiration Date of Approval: May 31, 2013.

Abstract: The National Highway Traffic Safety Administration (NHTSA) anticipates the need to periodically conduct focus group sessions to define its efforts to reduce traffic injuries and fatalities. Session participation would be voluntary and compensated with, on average, a $75 honorarium. Focus group topics will include: Strategic messaging (e.g., slogans or advertisement concepts concerning seat belt use, impaired driving, driver distraction or tire pressure monitoring), problem identification (e.g., discussions with high-risk groups on beliefs, attitudes, driving behaviors, or reactions to interventions and countermeasures), and resource development (e.g., testing materials designed to communicate essential information about traffic safety issues such as vehicle or equipment performance rating systems). The purpose of the generic clearance request is to obtain approval for NHTSA's general approach to conducting focus group research. NHTSA will submit an individual Information Collection Request (ICR), detailing the specific nature and methodology of planned focus group sessions, to the Office of Management and Budget (OMB) prior to any collection activity covered under this generic clearance.

Description of the Need for the Information and Proposed Use of the Information—The National Highway Traffic Safety Administration (NHTSA) was authorized by the Highway Safety Act of 1966 to carry out a Congressional mandate to reduce the mounting number of deaths, injuries and economic losses resulting from motor vehicle crashes on our Nation's highways. In support of this mission, NHTSA anticipates the occasional need to conduct focus group sessions in order to develop and define effective interventions and countermeasures.

NHTSA will use the findings from focus group sessions to help focus current programs, interventions and countermeasures in order to achieve the greatest benefit in decreasing crashes and resulting injuries and fatalities, and provide informational support to States, localities, and law enforcement agencies that will aid them in their efforts to reduce traffic crashes.

Description of the Likely Respondents (Including Estimated Number, and Proposed Frequency of Response to the Collection of Information)—Each year NHTSA anticipates conducting 19 Focus Group Studies. Likely respondents are licensed drivers 18 years of age and older who have not participated in a previous focus group session.

Estimate of the Total Annual Reporting and Record Keeping Burden Resulting from the Collection of Information—Each of the 19 Studies will consist of approximately 11 focus groups of nine participants and last approximately 80 minutes. Individuals will be recruited via advertisement, intercept, or randomly dialed telephone calls and screened based on the desired criteria. The recruiting and screening process is estimated to take no more than 10 minutes per person. Therefore, the estimated annual burden is 2822 hours. The respondents would not incur any reporting cost from the information collection. The respondents also would not incur any record keeping burden or record keeping cost from the information collection.

Comments are invited on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

A comment to OMB is most effective if OMB receives it within 30 days of publication.

Authority: 44 U.S.C. Section 3506(c)(2)(A).

Jeff Michael,
Associate Administrator, Research and Program Development.

[FR Doc. 2010-10627 Filed 5-5-10; 8:45 am]

BILLING CODE 4910-59-P